SOCIAL SECURITY ADMINISTRATION

[Docket No: SSA-2017-0035]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2017-0035].

I. The information collection below are pending at SSA. SSA will submit it to OMB within 60 days from the date of this notice. To be sure we consider your comments, we must receive them no later than September 5, 2017. Individuals can obtain copies of the collection instruments by writing to the above email address.

Help America Vote Act—0960-0706. House Rule 3295, the Help America Vote Act of 2002, mandates that States verify the identities of newly registered voters. When newly registered voters do not have driver's licenses or State-issued ID cards, they must supply the last four digits of their Social Security number to their local State election agencies for verification. The election agencies forward this information to their State Motor Vehicle Administration (MVA), and the State MVA inputs the data into the American Association of MVAs, a central consolidation system that routes the voter data to SSA's Help America Vote Verification (HAVV) system. Once SSA's HAVV system confirms the identity of the voter, the information returns along the same route in reverse until it reaches the State election agency. The respondents are the State MVAs seeking to confirm voter identities.

Type of Request: Revision of an OMB-approved information collection.

Modality of completion | Number of respondents | Frequency of response | Average burden per response (minutes) | Estimated total annual burden (hours)
HAVV | 4,938,093 | 1 | 2 | 164,603

II. SSA submitted the information collections below to OMB for clearance. Your comments regarding these information collections would be most useful if OMB and SSA receive them 30 days from the date of this publication. To be sure we consider your comments, we must receive them no later than August 4, 2017. Individuals can obtain copies of the OMB clearance packages by writing to OR.Reports.Clearance@ssa.gov.

1. Application for Benefits under a U.S. International Social Security Agreement—20 CFR 404.1925—0960-0448. Section 233(a) of the Social Security Act (Act) authorizes the President to broker international Social Security agreements (Totalization Agreements) between the United States and foreign countries. SSA collects information using Form SSA-2490-BK to determine entitlement to Social Security benefits from the United States, or from a country that enters into a Totalization Agreement with the United States. The respondents are individuals applying for Old Age Survivors and Disability Insurance (OASDI) benefits from the United States or from a Totalization Agreement country.

Type of Request: Revision of an OMB-approved information collection.

Modality of completion | Number of respondents | Frequency of response | Average burden per response (minutes) | Estimated total annual burden (hours)
SSA-2490-BK (MCS) | 15,030 | 1 | 30 | 7,515
SSA-2490-BK (paper) | 2,120 | 1 | 30 | 1,060
Totals | 17,150 |  |  | 8,575

2. Medicare Part D Subsidies Regulations—20 CFR 418.3625(c), 418.3645, 418.3665(a), and 418.3670—0960-0702. The Medicare Prescription Drug Improvement and Modernization Act (MMA) of 2003 established the Medicare Part D program for voluntary prescription drug coverage of premium, deductible, and co-payment costs for certain low-income individuals. The MMA also mandated the provision of subsidies for those individuals who qualify for the program and who meet eligibility criteria for help with premium, deductible, or co-payment costs. This law requires SSA to make eligibility determinations, and to provide a process for appealing SSA's determinations. Regulation sections 418.3625(c), 418.3645, 418.3665(a), and 418.3670 contain public reporting requirements pertaining to administrative review hearings. Respondents are applicants for the Medicare Part D subsidies who request an administrative review hearing.

Type of Request: Revision of an existing OMB-approved information collection.

Modality of completion | Number of respondents | Frequency of response | Average burden per response (minutes) | Estimated total annual burden (hours)
418.3625(c) | 140 | 1 | 5 | 12
418.3645 | 10 | 1 | 10 | 2
418.3665(a) | 275 | 1 | 5 | 23
418.3670 * | 0 | 1 | 10 | 0
Total | 425 |  |  | 37
* Regulation section 418.3670 could be used at any time; however, we currently have no data showing usage over the past three years.

3. Request for Evidence from Doctor and Request for Evidence from Hospital—20 CFR 404 Subpart P and 20 CFR 416 Subpart I—0960-0722. Sections 223(d)(5) and 1614(a)(3)(H)(i) of the Act require claimants to furnish medical evidence of their disability when filing a disability claim. SSA uses Forms HA-66 and HA-67 to request evidence from medical sources, which claimants identify as having information relative to their impairments, or ability to do work-related activities. In addition to accepting manual paper responses, SSA sends a barcode with the HA-66 and HA-67, allowing respondents to fax the information directly into the electronic claims folder rather than submitting it manually. SSA uses the information to determine eligibility for benefits, and to pay medical sources for furnishing the information. The respondents are medical sources, doctors, and hospitals that evaluate the claimants.

This is a correction notice: when we published the first Federal Register Notice on February 28, 2017 at 82 FR 12159, it did not include the accurate number of responses. We are correcting this by publishing the number of responses in a separate column in the chart below.

Type of Request: Revision of an OMB-approved information collection.

Modality of completion | Number of respondents | Frequency of response | Number of responses | Average burden per response (minutes) | Estimated total annual burden (hours)
HA-66—Paper Version | 3,060 | 22 | 67,320 | 15 | 16,830
HA-66—Electronic Version | 8,940 | 22 | 196,680 | 15 | 49,170
HA-67—Paper Version | 3,060 | 22 | 67,320 | 15 | 16,830
HA-67—Electronic Version | 8,940 | 22 | 196,680 | 15 | 49,170
Totals | 24,000 |  | 528,000 |  | 132,000

Dated: June 28, 2017.
Naomi R. Sipple,
Reports Clearance Officer, Social Security Administration.

[FR Doc. 2017-14018 Filed 7-3-17; 8:45 am]

BILLING CODE 4191-02-P